DEPARTMENT OF COMMERCE

National Oceanic and Atmospheric Administration (NOAA)

Ocean Exploration Advisory Board (OEAB)

AGENCY: Office of Ocean Exploration and Research (OER), National Oceanic and Atmospheric Administration (NOAA), Department of Commerce (DOC).

ACTION: Notice of public meeting.

SUMMARY: This notice sets forth the schedule and proposed agenda for a meeting of the Ocean Exploration Advisory Board (OEAB). OEAB members will discuss and provide advice on Federal ocean exploration programs, with a particular emphasis on the topics identified in the section on Matters to Be Considered.

DATES: The announced meeting is scheduled for Tuesday, December 3, 2019 from 9:00 a.m. to 5:00 p.m. EST and Wednesday, December 4, 2019 from 9:00 to 5:00 p.m. EST.

ADDRESSES: The meeting will be held at: Consortium for Ocean Leadership, 1201 New York Avenue NW, Suite 420, Washington, DC 20005.

FOR FURTHER INFORMATION CONTACT: Mr. David McKinnie, Designated Federal Officer, Ocean Exploration Advisory Board, National Oceanic and Atmospheric Administration, 7600 Sand Point Way NE, Seattle, WA 98115, (206) 526-6950.

SUPPLEMENTARY INFORMATION: NOAA established the OEAB under the Federal Advisory Committee Act (FACA) and legislation that gives the agency statutory authority to operate an ocean exploration program and to coordinate a national program of ocean exploration. The OEAB advises NOAA leadership on strategic planning, exploration priorities, competitive ocean exploration grant programs and other matters as the NOAA Administrator requests.

OEAB members represent government agencies, the private sector, academic institutions, and not-for-profit institutions involved in all facets of ocean exploration—from advanced technology to citizen exploration.

In addition to advising NOAA leadership, NOAA expects the OEAB to help to define and develop a national program of ocean exploration—a network of stakeholders and partnerships advancing national priorities for ocean exploration.

Matters to be Considered: The OEAB will discuss the following topics: (1) The Ocean Science and Technology Summit; (2) the NOAA fleet plan; (3) OER updates, including the OER program review, the OER annual review, and the Ocean Exploration Fiscal Year 2019 Funding Opportunity projects; (4) an update on the U.S. critical minerals strategy; and (5) other matters as described in the agenda. The agenda and other meeting materials are available on the OEAB website at http://oeab.noaa.gov.

Status: The meeting will be open to the public with a 15-minute public comment period on Wednesday, December 4, 2019 from 11:45 a.m. to 12:00 p.m. EST (please check the final agenda on the OEAB website to confirm the time). The public may listen to the meeting and provide comments during the public comment period via teleconference. Dial-in information may be found on the meeting agenda on the OEAB website.

The OEAB expects that public statements at its meetings will not be repetitive of previously submitted verbal or written statements. In general, each individual or group making a verbal presentation will be limited to three minutes. The Designated Federal Officer must receive written comments by November 26, 2019, to provide sufficient time for OEAB review. Written comments received after November 26, 2019, will be distributed to the OEAB but may not be reviewed prior to the meeting date. Seats will be available on a first-come, first-served basis.

Special Accomodations: These meetings are physically accessible to people with disabilities. Requests for sign language interpretation or other auxiliary aids should be directed to the Designated Federal Officer by November 26, 2019.

Dated: October 2, 2019.
David Holst,
Chief Financial Officer/Administrative Officer, Office of Oceanic and Atmospheric Research, National Oceanic and Atmospheric Administration.

[FR Doc. 2019-22111 Filed 10-8-19; 8:45 am]

BILLING CODE 3510-KA-P